DEPARTMENT OF THE INTERIOR

Fish and Wildlife Service

Notice of Availability of the Draft Comprehensive Conservation Plan and Environmental Impact Statement for the Hanford Reach National Monument and Notification of Public Meetings

AGENCY: Fish and Wildlife Service, Interior.

ACTION: Notice of availability and notification of public meetings.

SUMMARY: The Fish and Wildlife Service (Service) announces that the Draft Hanford Reach National Monument (Monument) Comprehensive Conservation Plan and Environmental Impact Statement (Draft CCP/EIS) is available for review and comment. The Draft CCP/EIS describes the Service's proposal for managing the Monument for the next 15 years. Proposed changes to Monument management include: Opening additional acres to public use; implementing an upland and riparian habitat management program; developing and implementing cultural resource monitoring and management plans; establishing partnerships and community outreach programs to refine management of natural, cultural and recreational resources; establishing an environmental education program; and expanding interpretive, wildlife viewing, and wildlife photography facilities and programs. Draft compatibility determinations for several different public uses are also available for review with the Draft CCP/EIS.

DATES: Written comments must be received at the address below by February 23, 2007. Public meetings will be held in January and February of 2007, see SUPPLEMENTARY INFORMATION for more information.

ADDRESSES: Comments on the Draft CCP/EIS should be addressed to: Greg Hughes, Project Leader, Hanford Reach National Monument, 3250 Port of Benton Boulevard, Richland, Washington 99354. Comments may also be submitted: at the public meetings; via electronic mail to hanfordreach@fws.gov; or via the Internet at http://www.fws.gov/hanfordreach/. Please use “Hanford Reach CCP” in the subject line for all electronic correspondence. See SUPPLEMENTARY INFORMATION for information on how to view or obtain a copy of the Draft CCP/EIS and for the dates, times, and locations of the public meetings.

FOR MORE INFORMATION CONTACT: Greg Hughes, Project Leader, phone (509) 371-1801.

SUPPLEMENTARY INFORMATION: The Draft CCP/EIS was prepared pursuant to the National Wildlife Refuge System Administration Act, as amended, and the National Environmental Policy Act of 1969 (NEPA). Copies of the Draft CCP/EIS, on compact disk, may be obtained by contacting Greg Hughes, Hanford Reach National Monument, 3250 Port of Benton Boulevard, Richland, Washington 99354, telephone (509) 371-1801. The Draft CCP/EIS may be downloaded from hanfordreach.fws.gov/planning.html. Copies of the Draft CCP/EIS may be viewed at Hanford Reach National Monument (see ADDRESSES) and at the following libraries and reading rooms.

1. Department of Energy Reading Room, Washington State University Tri-Cites Campus Library and Hanford Technical Library, Consolidated Information Center, 2770 University Drive, Richland, WA.

2. Mid-Columbia Public Library, Benton City Branch, 708 9th Street, Benton City, WA.

3. Kennewick Public Library, 1620 South Union, Kennewick, WA.

4. Mattawa Community Library, 61 Government Way, Mattawa, WA.

5. Othello Public Library, 101 East Main Street, Othello, WA.

6. Pasco Public Library, 1320 West Hopkins Street, Pasco, WA.

7. Richland Public Library, 955 Northgate Drive, Richland, WA.

Public Meetings

Four public meetings will be held to obtain public comments on the Draft CCP/EIS. The dates, times, and locations of the public meetings follow.

1. January 30, 2007, 5 p.m. to 8 p.m., at Mattawa Elementary School Gym, 400 North Boundary Road, Mattawa, WA.

2. January 31, 2007, 5 p.m. to 8 p.m., at Sunnyside Community Center, 1521 South 1st Street, Sunnyside, WA.

3. February 5, 2007, 10 a.m. to 2 p.m., at the Hampton Inn, 486 Bradley Blvd., Richland, WA.

4. February 8, 2007, 5 p.m. to 8 p.m., at the Red Lion Hotel, 2525 North 20th Ave., Pasco, WA.

Background

The 195,777-acre Monument is located in south-central Washington near Kennewick, Pasco, and Richland (Tri-Cities), Washington. Monument lands lie on both sides of the Columbia River. The land comprising the Monument has an unusual and colorful provenance. The entry of the United States into World War II, and the race to develop an atomic bomb, led to the search for a suitable place to locate plutonium production and purification facilities. In 1943, the War Department went in search of a remote, easily defensible, and geologically stable site, with plenty of cool water, abundant energy (from hydropower dams on the Columbia River), and a moderate climate, on which to build plutonium production reactors. The area around the isolated desert towns of White Bluffs and Hanford was an ideal location.

For more than 40 years, the primary mission at the Hanford Site was the production of nuclear materials for national defense. However, only a relatively small central core of the entire Hanford Site was needed for plutonium production; large tracts of land around this core were used as protective buffer zones for safety and security purposes and remained undisturbed. These buffer zones preserved a nationally significant biological and cultural resource setting in the Columbia Basin region.

In the early 1970s, the need for large buffer zones around the Hanford central core declined, and the Department of Energy (DOE), now running the Hanford Site, began transferring the management of portions of the buffer zones to the Service and the Washington State Department of Fish and Wildlife, culminating with the 1997 transfer of the administration of the Fitzner-Eberhardt Arid Lands Ecology Reserve to the Service.

In the 1980s, concerns for protection of the Hanford Site's natural and cultural resource values grew, as did interest in consolidating management under one natural resource agency. In 1988, Congress directed the Department of the Interior (DOI) to conduct a study of excess lands within the Hanford Site, with the intent to provide recommendations to Congress on the manner to best protect natural and cultural resource values. The resulting report by the National Park Service—the Hanford Reach of the Columbia River Comprehensive River Conservation Study—and DOE's Comprehensive Land Use Plan, identified the Service as best suited to protect those values, and the lands necessary to support them. After years of discussion and controversy, the question of protection was settled when President Clinton created the Monument in June 2000 (Proclamation 7319) under the American Antiquities Act.

Within the Hanford Site, the Monument forms a large horseshoe-shaped area around what is generally known as Central Hanford. The Monument, and Central Hanford, have been protected since 1943, and together, provide a haven for native plants, animals, and biological communities that were once more common in the surrounding landscape. Equally important is the portion of the Columbia River within the Hanford Site. It is unique within the post-dam Columbia River system in the United States, because the river is essentially free flowing through a segment of approximately 51 miles (46.5 miles are within the Monument). This segment, called the Hanford Reach, contains riparian habitat that is otherwise rare within the Columbia River system. It is because of this juxtaposition of increasingly rare habitats—the only nontidal, free-flowing stretch of the Columbia River remaining in the United States, and the largest remnant of the shrub-steppe ecosystem that dominated the Columbia Basin prior to European settlement—that the Monument was established.

Purpose and Need for Action

The purpose of the CCP is to provide a coherent, integrated set of management actions to help attain the Monument's vision, goals, and objectives. The CCP identifies the role the Monument should play in support of the mission of the National Wildlife Refuge System (NWRS), explains the Service's management actions, and provides a basis for Monument funding requests.

Alternatives

The Draft CCP/EIS identifies and evaluates six alternatives for managing the Monument for the next 15 years. All alternatives, except the No Action Alternative, open more acres of the Monument to public access, with Alternative B opening the least amount of acreage and Alternatives D and E opening the most. All alternatives meet the primary purposes of the Monument and the mission of the NWRS; therefore, each one has the potential to be selected for implementation. The draft Alternative E has been identified as the preferred alternative because it strikes a reasonable balance between resource protections and compatible, wildlife-dependent public use and access, while at the same time addressing relevant laws, policies, regulations, and other mandates, and locally identified significant issues.

Alternative A, the No Action Alternative, is required by NEPA. It provides a baseline from which to compare the other alternatives. Under Alternative A, management practices already underway or funded would continue. Management would focus on protecting and enhancing biological and cultural resources, fire protection, fire rehabilitation, and maintenance of existing facilities. Land use designations that were in place at the time of Monument establishment would be maintained. Access for recreational, interpretive, and educational purposes would continue year-round in designated areas. The current primitive recreation opportunities would continue to be provided. The small environmental education program would continue, but could fluctuate without a stable staff base.

Alternative B focuses on protecting, conserving, and restoring the resources described in the Monument Proclamation; thousands of acres of the Monument could see some level of restoration activity on an annual basis. Avoiding impacts to resources would be a priority. Access for recreational, interpretive, and educational purposes would be expanded over current levels and would continue year-round in designated areas. The current primitive recreation opportunities would continue, with some additional facilities provided. New facilities could include wildlife observation sites and the construction of new trails. The small environmental education program would be slightly expanded.

Alternative C focuses on protecting and conserving the natural resources of the Monument by concentrating public use away from the Monument's interior to create and maintain large areas that are free of development, both for conservation purposes and to maintain natural landscapes and solitude opportunities. Visitors would be allowed access to significant portions of the Monument, but access points would be limited and concentrated in specific areas. Both primitive and developed recreation opportunities would be provided, although ease of access would be constrained. New facilities could include camping sites for float boaters, improved boat launches, wildlife observation sites, and the construction of new trails in greater abundance than Alternative B. Educational and interpretive opportunities would be substantially enhanced over current levels. Through economies of scale, and limiting large-scale development, more resources would be available for habitat restoration activities than under any alternative except Alternative B.

Alternative D provides the highest level of public use and access, although protection of resources would still remain a priority. Alternative D would assume a greater acceptance of risk to natural and cultural resources through increased public use and access. Developed recreation opportunities and visitor facilities would be increased significantly from the current level, including the construction of campgrounds, boat launches, new access points, trails, and automobile tour routes. Educational and interpretive opportunities would be greatly expanded over current levels, and would be aimed at not just providing information about the Monument, but also protecting Monument resources. This increase in public amenities would likely mean a decrease in restoration activities, with a greater emphasis on protecting resources and habitats in their current conditions.

Alternative E, the Preferred Alternative, was developed by the Hanford Reach Federal Advisory Committee (FAC) based on the initial range of actions under Alternatives A, B, C, and D. The FAC selected elements from each of the other alternatives to develop this alternative. Access points would be concentrated, much the same as Alternative C, although development most closely matches that of Alternative D. Recreation opportunities and visitor facilities would be increased substantially from the current level, although not to the level of Alternative D. New amenities would include the construction of camp sites for float boaters, boat launches, trails, and new access points. Educational and interpretive opportunities would be greatly expanded over current levels, although not to the level of Alternative D. This increase in public amenities would also likely mean a decrease in restoration activities, with a greater emphasis on protecting resources and habitats in the condition they currently exist.

Alternative F was developed by the Confederated Tribes of the Umatilla Indian Reservation (CTUIR) by modifying Alternative B. Restoration, access, public use and other management actions closely resemble Alternative B. The primary difference between Alternatives B and F is that Alternative F controls and monitors all public use and access through a permit system for all open areas of the Monument. Some areas would also require user fees to help fund Monument programs.

Public Comments

Public comments are requested, considered, and incorporated throughout the planning process. After the review and comment period ends for this Draft CCP/EIS, comments will be analyzed by the Service and addressed in revised planning documents. All comments received from individuals, including names and addresses, become part of the official public record and may be released. Requests for release of comments received from the public will be handled in accordance with the Freedom of Information Act, NEPA, and Service and DOI policies and procedures.

Dated: December 7, 2006.
David J. Wesley,
Acting Regional Director, Region 1, Portland, Oregon.

[FR Doc. E6-21261 Filed 12-12-06; 8:45 am]

BILLING CODE 4310-55-P